SMALL BUSINESS ADMINISTRATION

Reporting and Recordkeeping Requirements Under OMB Review

AGENCY: Small Business Administration.

ACTION: Notice of reporting requirements submitted for OMB review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before November 6, 2008. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Jacqueline White, Small Business Administration, 409 3rd Street, SW., 5th Floor, Washington, DC 20416; and OMB Reviewer, Office of Information and Regulatory Affairs, Office of Management and Budget, New Executive Office Building, Washington, DC 20503.

FOR FURTHER INFORMATION CONTACT: Jacqueline White, Agency Clearance Officer, (202) 205-7044.

SUPPLEMENTARY INFORMATION: Title: Compensation Agreement; Resolution of Board of Directors, and Certificates as to Partners.

SBA Form Numbers: 159(7a), 159(504), 159D, 160, 160A.

Frequency: On Occasion.

Description of Respondents: 7(A) Participants.

Responses: 27,753.

Annual Burden: 2,558.

Title: Statement of Debtor.

SBA Form Number: 770.

Frequency: On Occasion.

Description of Respondents: SBA Borrowers of guarantors who request compromise.

Responses: 5,000.

Annual Burden: 2,500.

Title: Servicing Agent Agreement.

SBA Form Number: 1506.

Frequency: On Occasion.

Description of Respondents: Certified Development Companies and SBA Borrowers.

Responses: 15,516.

Annual Burden: 15,516.

Title: Prime (Program for Investment in Microentrepreneurs).

SBA Form Number: N/A.

Frequency: On Occasion.

SBA Form Number: N/A.

Description of Respondents: Disadvantage Microentrepreneurs.

Responses: 156.

Annual Burden: 312.

Jacqueline White,
Chief, Administrative Information Branch.

[FR Doc. E8-23647 Filed 10-6-08; 8:45 am]

BILLING CODE 8025-01-P